CONSUMER PRODUCT SAFETY COMMISSION

16 CFR Chapter II

[CPSC Docket No. CPSC-2015-0022]

Products Containing Organohalogen Flame Retardants; Notice of Opportunity for Oral Presentation of Comments

AGENCY: Consumer Product Safety Commission.

ACTION: Notice of opportunity for oral presentation of comments.

SUMMARY: The Consumer Product Safety Commission (CPSC or Commission) announces that there will be an opportunity for interested persons to present oral comments on the petition requesting that the Commission initiate rulemaking under the Federal Hazardous Substances Act (FHSA) to declare several categories of products containing additive organohalogen flame retardants to be “banned hazardous substances.”

DATES: The meeting will begin at 10 a.m., September 14, 2017. Requests to make oral presentations and the written text of any oral presentations must be received by the Office of the Secretary not later than 5 p.m. Eastern Daylight Time (EDT) on August 31, 2017.

ADDRESSES: The meeting will be held at 4330 East West Highway, Bethesda, MD 20814. Requests to make oral presentations, and texts of oral presentations, should be captioned: “Organohalogen Flame Retardants Petition; Oral Presentation” and submitted by email to cpsc-os@cpsc.gov, or mailed or delivered to the Office of the Secretary, Consumer Product Safety Commission, 4330 East West Highway, Bethesda, MD 20814, not later than 5 p.m. EDT on August 31, 2017.

FOR FURTHER INFORMATION CONTACT: For information about the purpose or subject matter of this meeting, contact Michael Babich, Division of Toxicology & Risk Assessment, U.S. Consumer Product Safety Commission, 5 Research Place, Rockville, MD 20850; telephone (301) 987-2606. For information about the procedure to make an oral presentation, contact Rockelle Hammond, Office of the Secretary, Consumer Product Safety Commission, 4330 East West Highway, Bethesda, MD 20814; telephone (301) 504-7923.

SUPPLEMENTARY INFORMATION:

A. Background

On July 1, 2015, the Commission received a petition requesting that the Commission initiate rulemaking under the FHSA to declare several categories of products containing additive organohalogen flame retardants to be “banned hazardous substances.” The petition was filed by Earthjustice and the Consumer Federation of America, which are joined by American Academy of Pediatrics, American Medical Women's Association, Consumers Union, Green Science Policy Institute, International Association of Fire Fighters, Kids in Danger, Philip Landrigan, M.D., M.P.H., League of United Latin American Citizens, Learning Disabilities Association of America, and Worksafe. CPSC staff has prepared a briefing package in response to the petition; the briefing package, which includes the petition in its entirety, is available at https://www.cpsc.gov/s3fs-public/PetitionHP15-1RequestingRulemakingonCertainProductsContainingOrganohalogenFlameRetardants.pdf?aTsa_sSaCiSMf1Z_2CfvISjMHFEdWKZ7.

B. The Public Meeting

The Commission is providing this forum for oral presentations concerning the petition. See the information under the headings DATES and ADDRESSES at the beginning of this notice for information on making requests to give oral presentations at the meeting.

Participants should limit their presentations to approximately 10 minutes, exclusive of any periods of questioning by the Commissioners. To prevent duplicative presentations, groups will be directed to designate a spokesperson. The Commission reserves the right to limit the time further for any presentation and impose restrictions to avoid excessive duplication of presentations.

Dated: August 2, 2017.
Todd A. Stevenson,
Secretary, U.S. Consumer Product Safety Commission.

[FR Doc. 2017-16588 Filed 8-4-17; 8:45 am]

BILLING CODE 6355-01-P